DEPARTMENT OF AGRICULTURE

Forest Service

Newspapers Used for Publication of Legal Notice of Appealable Decisions for the Northern Region; Idaho, Montana, North Dakota, and Portions of South Dakota and Eastern Washington

AGENCY: Forest Service, USDA.

ACTION: Notice.

SUMMARY: This notice lists the newspapers that will be used by all Ranger Districts, Forests, and the Regional Office of the Northern Region to publish legal notice of all decisions subject to appeal under 36 CFR parts 215 and 217 and to publish notices for public comment and notice of decision subject to the provisions of 36 CFR part 215. The intended effect of this action is to inform interested members of the public which newspapers will be used to publish legal notices for public comment or decisions; thereby allowing them to receive constructive notice of a decision, to provide clear evidence of timely notice, and to achieve consistency in administering the appeals process.

DATES: Publication of legal notices in the listed newspapers will begin with decisions subject to appeal that are made on or after December 14, 2001. The list of newspapers will remain in effect until another notice is published in the Federal Register.

FOR FURTHER INFORMATION CONTACT: Appeals and Litigation Group Leader; Northern Region; PO Box 7669; Missoula, Montana 59807. Phone: (406) 329-3696.

The newspapers to be used are as follows:

Northern Regional Office.—Regional Forester decisions in Montana:

The Missoulian, Great Falls Tribune, and the Billings Gazette.

Regional Forester decisions in Northern Idaho and Eastern Washington: The Spokesman Review.

Regional Forester decisions in North Dakota: Bismarck Tribune.

Regional Forester decisions in South Dakota: Rapid City Journal.

Beaverhead/Deerlodge—Montana Standard

Bitterroot—Ravalli Republic

Clearwater—Lewiston Morning Tribune

Custer—Billings Gazette (Montana)

Rapid City Journal (South Dakota)

Dakota Prairie National Grasslands—Bismarck Tribune (North Dakota)

Rapid City Journal (South Dakota)

Flathead—Daily Interlake

Gallatin—Bozeman Chronicle

Helena—Independent Record

Idaho Panhandle—Spokesman Review

Kootenai—Daily Interlake

Lewis & Clark—Great Falls Tribune

Lolo—Missoulian

Nez Perce—Lewiston Morning Tribune

Supplemental notices may be placed in any newspaper, but time frames/deadlines will be calculated based upon notices in newspapers of record listed above.

Dated: December 7, 2001.
Kathleen A. McAllister,
Deputy Regional Forester.

[FR Doc. 01-30861 Filed 12-13-01; 8:45 am]

BILLING CODE 3410-11-M